DEPARTMENT OF TRANSPORTATION

Maritime Administration

Reports, Forms and Recordkeeping Requirements; Agency Information Collection Activity Under OMB Review

AGENCY: Maritime Administration, DOT.

ACTION: Notice and request for comments.

SUMMARY: In compliance with the Paperwork Reduction Act of 1995 (44 U.S.C. 3501 et seq.), this notice announces that the Information Collection abstracted below has been forwarded to the Office of Management and Budget (OMB) for review and approval. The nature of the information collection is described as well as its expected burden. The Federal Register Notice with a 60-day comment period soliciting comments on the following collection of information was published on June 23, 2010. No comments were received.

DATES: Comments must be submitted on or before November 1, 2010.

FOR FURTHER INFORMATION CONTACT: Linden Houston, Maritime Administration, 1200 New Jersey Avenue, SE., Washington, DC 20590. Telephone: 202-366-4839; or e-mail linden.houston@dot.gov. Copies of this collection also can be obtained from that office.

SUPPLEMENTARY INFORMATION: Maritime Administration (MARAD).

Title: Application for Conveyance of Port Facility Property, formerly, Port Facility Conveyance Information.

OMB Control Number: 2133-0524.

Type of Request: Extension of currently approved collection.

Affected Public: Eligible state and local public entities.

Form (s): MA-1047.

Abstract: Section 2927 of Public Law 103-160 authorizes the Department of Transportation to convey excess federal real and related personal property needed by states and local government entities for the development or operation of a port facility. The requested information is required to evaluate the applicants need and eligibility for the property. Compliance data is required on a yearly basis to determine if conveyed property is being used in accordance with the terms of the conveyance.

Annual Estimated Burden Hours: 440 hours.

Addressee: Send comments to the Office of Information and Regulatory Affairs, Office of Management and Budget, 725 17th Street, NW., Washington, DC 20503, Attention MARAD Desk Officer.

Comments are Invited on: Whether the proposed collection of information is necessary for the proper performance of the functions of the agency, including whether the information will have practical utility; the accuracy of the agency's estimate of the burden of the proposed information collection; ways to enhance the quality, utility and clarity of the information to be collected; and ways to minimize the burden of the collection of information on respondents, including the use of automated collection techniques or other forms of information technology. A comment to OMB is best assured of having its full effect if OMB receives it within 30 days of publication.

Authority: 49 CFR 1.66.

By Order of the Maritime Administrator.
Dated: September 21, 2010.
Christine Gurland,
Secretary, Maritime Administration.

[FR Doc. 2010-24701 Filed 9-30-10; 8:45 am]

BILLING CODE 4910-81-P